DEPARTMENT OF THE INTERIOR

Fish and Wildlife Service

[FWS-R2-ES-2020-N163; FXES11130200000-212-FF02ENEH00]

Endangered and Threatened Wildlife and Plants; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please submit your written comments by February 18, 2021.

ADDRESSES: Document availability: Request documents by phone or email: Beth Forbus, 505-248-6681, beth_forbus@fws.gov.

Comment submission: Submit comments by email to fw2_te_permits@fws.gov. Please specify the permit you are interested in by number (e.g., Permit No. TE-123456).

FOR FURTHER INFORMATION CONTACT: Beth Forbus, Supervisor, Classification and Restoration Division, 505-248-6681. Individuals who are hearing or speech impaired may call the Federal Relay Service at 1-800-877-8339 for TTY assistance.

SUPPLEMENTARY INFORMATION:

Background

With some exceptions, the ESA prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) at title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
TE72324B | Dill, Lauren; Austin, Texas | Golden-cheeked warbler (Setophaga chrysoparia) | Texas | Presence/absence surveys | Harm, harass | Renew.
TE83399D | Johnson, James; Canyon, Texas | Pecos gambusia (Gambusia nobilis) | New Mexico, Texas | Sampling using minnow traps | Capture, harm, harass | New.
TE37484A | Balcones Canyonlands National Wildlife Refuge; Marble, Texas | Golden-cheeked warbler (Setophaga chrysoparia) | Texas | Presence/absence surveys, banding, mist netting, nest monitoring | Capture, harm, harass | Renew.
TE80520D | USGS, Grand Canyon Monitoring and Research Center; Flagstaff, Arizona | humpback chub (Gila cypha), razorback sucker (Xyrauchen texanus) | Arizona | Presence/absence surveys, monitoring | Harm, harass | Renew.
TE87767D | Canvas Natural Resource Solutions, LLC; Longview, Texas | Red-cockaded woodpecker (Picoides borealis) | Louisiana, Mississippi, Texas | Presence/absence surveys | Harm, harass | New.
TE87758D | UnderWing Biological, LLC; Silvery City, New Mexico | Southwestern willow flycatcher (Empidonax traillii extimus) | Arizona, California, Nevada, New Mexico, Texas | Presence/absence surveys, nest monitoring | Harm, harass | New.
TE833866 | Texas A&M Forest Service; Lufkin, Texas | Red-cockaded woodpecker (Picoides borealis) | Texas | Presence/absence surveys | Harm, harass | Renew.
TE174552 | Animas Biological Studies, LLC; Durango, Colorado | Southwestern willow flycatcher (Empidonax traillii extimus) | Arizona, Colorado, New Mexico, Utah | Presence/absence surveys, nest monitoring | Harm, harass | Renew.
TE59580A | Rocky Mountain Ecology, LLC; Rio Rancho, New Mexico | Southwestern willow flycatcher (Empidonax traillii extimus) | Colorado, New Mexico | Presence/absence surveys | Harass, harm | Renew.
TE73317B | Britt, Charles; Las Cruces, New Mexico | Southwestern willow flycatcher (Empidonax traillii extimus), northern aplomado falcon (Falco femoralis septentrionalis) | Arizona, New Mexico, | Presence/absence surveys | Harm, harass | Renew.
TE819477 | Parametrix; Albuquerque, New Mexico | Southwestern willow flycatcher (Empidonax traillii extimus) | Arizona, New Mexico | Presence/absence surveys | Harm, harass | Renew.

Authority: We provide this notice under section 10 of the ESA (16 U.S.C. 1531 et seq.).

Amy L. Lueders,
Regional Director, Southwest Region, U.S. Fish and Wildlife Service.

[FR Doc. 2021-00968 Filed 1-15-21; 8:45 am]

BILLING CODE 4333-15-P